DEPARTMENT OF COMMERCE

Foreign-Trade Zones Board

[Docket 40-2003]

Foreign-Trade Zone 181-Akron/Canton, Ohio; Application for Expansion

An application has been submitted to the Foreign-Trade Zones Board (the Board) by the Northeast Ohio Trade & Economic Consortium (NEOTEC), grantee of FTZ 181, requesting authority to expand and reorganize its zone in Akron/Canton, and the seven-county northeast Ohio area, within and adjacent to the Cleveland Customs port of entry. The application was submitted pursuant to the provisions of the Foreign-Trade Zones Act (19 U.S.C. 81a-81u), and the regulations of the Board (15 CFR part 400). It was formally filed on August 15, 2003.

FTZ 181 was approved by the Board on December 23, 1991 (Board Order 546, 57 FR 41; 1/2/92). On March 13, 1998, the grant of authority was reissued to NEOTEC (Board Order 965, 63 FR 13837; 3/23/98). The zone was expanded in 1997 (Board Order 902, 62 FR 36044; 7/3/97), in 1998 (Board Order 968, 63 FR 16962; 4/7/98), in 1999 (Board Order 1053, 64 FR 51291; 9/22/99) and in 2002 (Board Order 1260, 67 FR 71933; 12/3/02). FTZ 181 currently consists of six sites in the northeast, Ohio area:

Site 1 (8 Parcels, 555 acres total)—158 acres within the Akron-Canton Regional Airport; 3 acres 8400 Port Jackson Avenue, Jackson Township; 21 acres at 3175, 3325 & 3375 Gilchrist Road, Mogadore; 30 acres at the Cuyahoga Falls Industrial Park, Cuyahoga Falls; 30 acres at the Terminal Warehouse facility, 1779 Marvo Drive; 20 acres at 1600 Terex Road, Hudson, operated by Kobelco Stewart Bolling, Inc; 190 acres at the Ascot Industrial Park, Akron; and, 103 acres at the Prosper Industrial Park, Stow, Summit County, Ohio;

Site 2 (3 Parcels, 1,371 acres total)—within the Youngstown-Warren Regional Airport area, Trumbull County, Ohio;

Site 3 (3 Parcels, 190 acres total)—124 acres—2 parcels located at the Columbiana County Port Authority port terminal facility: (19 acres) at 1250 St. George Street, East Liverpool, and (105 acres) at the Leetonia Industrial Park, State Route 344, Leetonia, Ohio; and 66 acres at the Intermodal Industrial Park Port Facility, Wellsville, Columbiana County, Ohio;

Site 4 (7 Parcels, 1,197 acres total)—91 acre industrial park located on the southeast side of the city of Massillon, 840-acre Stark County Intermodal Facility, 12 acres located at 8045 Navarre Road, SW operated by Peoples Cartage, 40-acre Ford Industrial Park, adjacent to the City of Canton, 18 acres located at 2207 Kimball Road, SE., Canton, operated by Peoples Cartage, 158-acre Sawburg Commerce Industrial Park on the west side of Alliance, and 38-acre Detroit Diesel warehouse located at 515 11th Street, SE., Canton, Stark County, Ohio.

Site 5 (2,347 acres total)—located at the Mansfield Lahm Airport complex, State Route 13 at South Airport Road, Mansfield (includes the airport facility's four industrial parks, airport fueling facilities, and the 91-acre Gorman-Rupp facility, Mansfield, Ohio; and,

Site 6 (309 acres)—Kinder-Morgan/Pinney Dock and Transport Company, Inc. Facility located at 1149 East 5th Street, Ashtabula, Ohio.

The applicant is now requesting authority to update, expand and reorganize the zone as described below. The proposal also requests authority to reduce certain existing sites, and to add several new industrial park sites. Overall, the zone would be reduced by 217 acres.

Site 1 will be reorganized and expanded by deleting 7 acres from the southern portion of the Akron-Canton Regional Airport and adding it to a parcel south of Airport Drive; deleting 79 acres from the southeast and northwestern portions of the Ascot Industrial Park and adding 23 acres to the southern portion of the Park; deleting 18 acres from the rail line portion of the Prosper Industrial Park and adding 18 acres to the southeastern portion of the Park; and adding the 56-acres Akron-Fulton Municipal Airport and three new industrial park sites as follows: 55-acre Streetsboro Road Industrial Park; Hudson; 35-acre Freeway Drive Industrial Park, Macedonia; and, 23-acre Hy-Ko Business Park, Northfield. Overall, the reorganized Site 1 would cover 668 acres.

Site 2 will be reorganized by deleting 393 acres from the southern portion of the Youngstown-Warren Regional Airport and adding two new industrial parks as follows: 110-acre Lordstown Industrial Park, Trumbull County and the 100-acre Centerpointe Business Park, Austintown, Mahoning County, Ohio. The reorganized Site 2 would cover 1,188 acres.

Site 4: will be reorganized by deleting 21 acres from the southern portion of the Intermodal Facility and 31 acres from the northern and southern portions of the 91-acre MDF Industrial Park, Massillon. The applicant also requests to add the 52-acre Cloverleaf Park in Massillon. Total acreage will remain at 1,197.

Site 5: will be modified by deleting 308 acres from the southwestern portion of the Mansfield Lahm Airport. The reorganized Site 5 would cover 2,039 acres.

New Site 7: will involve the Interstate Commerce Center/Frost Road Commerce Center in Streetsboro (149 acres) and the Commerce Industrial Park (12 acres), Portage County, Ohio.

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below.

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue NW., Washington, DC 20230.

The closing period for their receipt is October 27, 2003. Rebuttal comments in response to material submitted during the foregoing period may be submitted during the subsequent 15-day period (to November 10, 2003).

A copy of the application and accompanying exhibits will be available for public inspection at the Foreign-Trade Zones Board's Executive Secretary at the first address listed above, and at the Office for the U.S. Department of Commerce Export Assistant Center, 600 Superior Avenue East, Suite 700, Cleveland, Ohio 44114.

Dated: August 15, 2003.
Dennis Puccinelli,
Executive Secretary.

[FR Doc. 03-21845 Filed 8-26-03; 8:45 am]

BILLING CODE 3510-DS-P